DEPARTMENT OF DEFENSE

Department of the Navy

Notice of Extension of Public Scoping Period for the Intent To Prepare an Environmental Impact Statement (EIS)/Overseas Environmental Impact Statement (OEIS) for Atlantic Fleet Active Sonar Training and To Announce an Additional Public Scoping Meeting

AGENCY: Department of the Navy, DoD.

ACTION: Notice.

SUMMARY: Pursuant to Section 102(2)(C) of the National Environmental Policy Act (NEPA) of 1969, as implemented by the Council on Environmental Quality Regulations (40 CFR parts 1500-1508), and Executive Order (E.O.) 12114 “Environmental Effects Abroad of Major Federal Actions” (44 FR 62,18722 (Mar. 29, 1979)), the Department of the Navy (DON) published a notice of intent to prepare a combined NEPA EIS and E.O. 12114, OEIS, and announced public scoping meetings in the Federal Register, 71 FR 57489 on September 29, 2006. This notice announces the extension of the public scoping period from December 1, 2006 to December 15, 2006, and announces an additional public scoping meeting.

DATES: Written comments on the scope of the EIS/OEIS should be postmarked no later than December 15, 2006. Comments may be mailed to Atlantic Division Naval Facilities Engineering Command, Attn: Code EV21 (Atlantic Fleet Sonar PM), 6506 Hampton Boulevard, Norfolk, VA 23508-1278.

Public scoping meetings were planned at seven sites to receive comments on environmental concerns that should be addressed in the EIS/OEIS. The November 2, 2006, meeting in New London, CT, was not properly announced in the local newspaper, and the Navy will hold another meeting as follows: Wednesday, November 29, 2006, 5 p.m.-8 p.m., Radisson Hotel New London, 35 Governor Winthrop Boulevard, New London, CT. Written public comments submitted during the November 2, 2006, meeting are a part of the record and do not need to be resubmitted.

SUPPLEMENTARY INFORMATION: The scoping meeting will consist of an informal, open house session with information stations staffed by DON representatives. Additional information concerning the meetings will be available on the EIS/OEIS Web page located at: http://AFASTEIS.GCSAIC.COM.

Dated: November 14, 2006.
M. A. Harvison,
Lieutenant Commander, Judge Advocate General's Corps, U.S. Navy, Federal Register Liaison Officer.

[FR Doc. E6-19636 Filed 11-20-06; 8:45 am]

BILLING CODE 3810-FF-P